Title 3—

The President

Executive Order 13336 of April 30, 2004

American Indian and Alaska Native Education

By the authority vested in me as President by the Constitution and the laws of the United States of America, and to recognize the unique educational and culturally related academic needs of American Indian and Alaska Native students consistent with the unique political and legal relationship of the Federal Government with tribal governments, it is hereby ordered as follows:

Section 1. Purpose. The United States has a unique legal relationship with Indian tribes and a special relationship with Alaska Native entities as provided in the Constitution of the United States, treaties, and Federal statutes. This Administration is committed to continuing to work with these Federally recognized tribal governments on a government-to-government basis, and supports tribal sovereignty and self-determination. It is the purpose of this order to assist American Indian and Alaska Native students in meeting the challenging student academic standards of the No Child Left Behind Act of 2001 (Public Law 107-110) in a manner that is consistent with tribal traditions, languages, and cultures. This order builds on the innovations, reforms, and high standards of the No Child Left Behind Act of 2001, including: stronger accountability for results; greater flexibility in the use of Federal funds; more choices for parents; and an emphasis on research-based instruction that works.

Sec. 2. Interagency Working Group. There is established an Interagency Working Group on American Indian and Alaska Native Education (Working Group) to oversee the implementation of this order.

(a) The Working Group's members shall consist exclusively of the heads of the executive branch departments, agencies, or offices listed below:

(i)

the Department of Education;

(ii)

the Department of the Interior;

(iii)

the Department of Health and Human Services;

(iv)

the Department of Agriculture;

(v)

the Department of Justice;

(vi)

the Department of Labor; and

(vii)

such other executive branch departments, agencies, or offices as the Co-Chairs of the Working Group may designate.

A member of the Working Group may designate, to perform the Working Group functions of the member, an employee of the member's department, agency, or office who is either an officer of the United States appointed by the President, or a full-time employee serving in a position with pay equal to or greater than the minimum rate payable for GS-15 of the General Schedule. The Working Group shall be led by the Secretaries of Education and the Interior, or their designees under this section, who shall serve as Co-Chairs.

(b) The function of the Working Group is to oversee the implementation of this order. The Working Group shall, within 90 days of the date of this order, develop a Federal interagency plan that recommends initiatives, strategies, and ideas for future interagency actions that promote the purpose, as stated in section 1, of this order. In carrying out its activities under this order, the Working Group may consult with representatives of American Indian and Alaska Native tribes and organizations, in conformity with Executive Order 13175 of November 6, 2000, and with the National Advisory Council on Indian Education (NACIE). Any such consultations shall be for the purpose of obtaining information and advice concerning American Indian and Alaska Native education and shall be conducted in a manner that seeks individual advice and does not involve collective judgment or consensus advice or deliberation.

Sec. 3. Study and Report. The Secretary of Education, in coordination with the Working Group, shall conduct a multi-year study of American Indian and Alaska Native education with the purpose of improving American Indian and Alaska Native students' ability to meet the challenging student academic standards of the No Child Left Behind Act of 2001.

(a) The study shall include, but not be limited to:

(i)

the compilation of comprehensive data on the academic achievement and progress of American Indian and Alaska Native students toward meeting the challenging student academic standards of the No Child Left Behind Act of 2001;

(ii)

identification and dissemination of research-based practices and proven methods in raising academic achievement and, in particular, reading achievement, of American Indian and Alaska Native students;

(iii)

assessment of the impact and role of native language and culture on the development of educational strategies to improve academic achievement;

(iv)

development of methods to strengthen early childhood education so that American Indian and Alaska Native students enter school ready to learn; and

(v)

development of methods to increase the high school graduation rate and develop pathways to college and the workplace for American Indian and Alaska Native students.

The Secretary of Education shall develop an agenda, including proposed timelines and ongoing activities, for the conduct of the study, and shall make that agenda available to the public on the Internet.

(b) The Secretary of Education, in coordination with the Working Group, shall issue a report to the President that shall:

(i)

provide the latest data available from the study;

(ii)

comprehensively describe the educational status and progress of American Indian and Alaska Native students with respect to meeting the goals outlined in the No Child Left Behind Act of 2001 and any other student achievement goals the Secretary of Education or the Secretary of the Interior may deem necessary;

(iii)

report on proven methods for improving American Indian and Alaska Native student academic achievement; and

(iv)

update the Federal interagency plan outlined in section 2(b) of this order.

Sec. 4. Enhancement of Research Capabilities of Tribal-Level Educational Institutions. The Secretary of Education and the Secretary of the Interior shall consult with the entities set forth in section 2(a) of this order and tribally controlled colleges and universities to seek ways to develop and enhance the capacity of tribal governments, tribal universities and colleges, and schools and educational programs serving American Indian and Alaska Native students and communities to carry out, disseminate, and implement education research, as well as to develop related partnerships or collaborations with non-tribal universities, colleges, and research organizations.

Sec. 5. National Conference. The Secretary of Education and the Secretary of the Interior, in collaboration with the Working Group and Federal, State, tribal, and local government representatives, shall jointly convene a forum on the No Child Left Behind Act of 2001 to identify means to enhance communication, collaboration, and cooperative strategies to improve the education of American Indian and Alaska Native students attending Federal, State, tribal, and local schools.

Sec. 6. Administration. The Department of Education shall provide appropriate administrative services and staff support to the Working Group. With the consent of the Department of Education, other participating agencies may provide administrative support to the Working Group, to the extent permitted by law and consistent with their statutory authority.

Sec. 7. Termination. The Working Group established under section 2 of this order shall terminate not later than 5 years from the date of this order, unless extended by the President.

Sec. 8. Consultation. The Secretary of Education and Secretary of the Interior shall consult the Attorney General as appropriate on the implementation of this order, to ensure that such implementation affords the equal protection of the laws required by the due process clause of the Fifth Amendment to the Constitution.

Sec. 9. General Provisions.

(a) This order is intended only to improve the internal management of the executive branch and is not intended to, and does not, create any right, benefit, or trust responsibility, substantive or procedural, enforceable at law or equity, by a party against the United States, its agencies or instrumentalities, its officers or employees, or any other person.

(b) Executive Order 13096 of August 6, 1998, is revoked.

B

THE WHITE HOUSE,

April 30, 2004.

[FR Doc. 04-10377

Filed 5-4-04; 8:45 am]

Billing code 3195-01-P